DEPARTMENT OF DEFENSE

GENERAL SERVICES ADMINISTRATION

NATIONAL AERONAUTICS AND SPACE ADMINISTRATION

48 CFR Part 52

[FAC 2023-06; FAR Case 2020-011; Item I; Docket No. FAR-2020-0011, Sequence No. 1]

RIN 9000-AO13

Federal Acquisition Regulation: Implementation of Federal Acquisition Supply Chain Security Act (FASCSA) Orders; Correction

AGENCY: Department of Defense (DoD), General Services Administration (GSA), and National Aeronautics and Space Administration (NASA).

ACTION: Interim rule, correction.

SUMMARY: DoD, GSA, and NASA are issuing an interim rule amending the Federal Acquisition Regulation (FAR) to implement supply chain risk information sharing and exclusion or removal orders consistent with the Federal Acquisition Supply Chain Security Act of 2018 and a final rule issued by the Federal Acquisition Security Council.

DATES: Effective date: December 4, 2023.

FOR FURTHER INFORMATION CONTACT: For clarification of content, contact Ms. Marissa Ryba, Procurement Analyst, at 314-586-1280 or by email at Marissa.Ryba@gsa.gov. For information pertaining to status, publication schedules, or alternate instructions for submitting comments if https://www.regulations.gov cannot be used, contact the Regulatory Secretariat Division at 202-501-4755 or GSARegSec@gsa.gov. Please cite FAC 2023-06, FAR Case 2020-011.

SUPPLEMENTARY INFORMATION: DoD, GSA, and NASA are correcting amendatory instructions under part 52, for sections 52.212-5, 52.213-4 and 52.244-6.

In the FR Doc. 2023-21320, published in the Federal Register at 88 FR 69503-69517 in the issue of October 5, 2023, make the following corrections:

52.212-5 [Corrected]

1. On pages 69516-69517, amendatory instruction 12 and the associated added and revised text, are corrected to read:

12. Amend section 52.212-5 by—

a. Revising the date of the clause;

b. Removing from paragraph (a)(2) “Lab and Other Covered Entities (NOV 2021)” and adding “Lab Covered Entities (DEC 2023)” in its place;

c. Redesignating paragraphs (b)(10) through (65) as paragraphs (b)(12) through (67) and adding new paragraphs (b)(10) and (11);

d. Removing from paragraph (e)(1)(iv) “Lab and Other Covered Entities (NOV 2021)” and adding “Lab Covered Entities (DEC 2023)” in its place;

e. Redesignating paragraphs (e)(1)(vii) through (xxv) as paragraphs (e)(1)(viii) through (xxvi) and adding a new paragraph (e)(1)(vii);

f. In Alternate II—

i. Revising the date;

ii. Removing from paragraph (e)(1)(ii)(D) “Lab and Other Covered Entities (NOV 2021)” and adding “Lab Covered Entities (DEC 2023)” in its place; and

iii. Redesignating paragraphs (e)(1)(ii)(G) through (X) as paragraphs (e)(1)(ii)(H) through (Y) and adding a new paragraph (e)(1)(ii)(G).

The revisions and additions read as follows:

52.212-5 Contract Terms and Conditions Required To Implement Statutes or Executive Orders-Commercial Products and Commercial Services.

* * * * *

Contract Terms and Conditions Required To Implement Statutes or Executive Orders—Commercial Products and Commercial Services (DEC 2023)

(b) * * *

_ (10) 52.204-28, Federal Acquisition Supply Chain Security Act Orders—Federal Supply Schedules, Governmentwide Acquisition Contracts, and Multi-Agency Contracts. (DEC 2023) (Pub. L. 115-390, title II).

_ (11)(i) 52.204-30, Federal Acquisition Supply Chain Security Act Orders—Prohibition. (DEC 2023) (Pub. L. 115-390, title II).

_ (ii) Alternate I (DEC 2023) of 52.204-30.

* * * * *

(e)(1) * * *

(vii)(A) 52.204-30, Federal Acquisition Supply Chain Security Act Orders—Prohibition. (DEC 2023) (Pub. L. 115-390, title II).

(B) Alternate I (DEC 2023) of 52.204-30.

* * * * *

Alternate II. (DEC 2023) * * *

(e)(1) * * *

(ii) * * *

(G)(1) 52.204-30, Federal Acquisition Supply Chain Security Act Orders—Prohibition. (DEC 2023) (Pub. L. 115-390, title II).

(2) Alternate I (DEC 2023) of 52.204-30.

* * * * *

52.213-4 [Corrected]

2. On page 69517, in the first column, correct instruction number 13.d., to read as follows:

d. Removing from paragraph (a)(2)(vii) “(NOV 2023)” and adding “(DEC 2023)” in its place.

52.244-6 [Corrected]

3. On page 69517, amendatory instruction 14 and the associated added and revised text, are corrected to read:

14. Amend section 52.244-6 by—

a. Revising the date of the clause;

b. Removing from paragraph (c)(1)(vi) “Lab and Other Covered Entities (NOV 2021)” and adding “Lab Covered Entities (DEC 2023)” in its place; and

c. Redesignating paragraphs (c)(1)(ix) through (xxii) as paragraphs (c)(1)(x) through (xxiii) and adding a new paragraph (c)(1)(ix) in its place.

The revision and addition read as follows:

52.244-6 Subcontracts for Commercial Products and Commercial Services.

* * * * *

Subcontracts for Commercial Products and Commercial Services (DEC 2023)

* * * * *

(c)(1) * * *

(ix)(A) 52.204-30, Federal Acquisition Supply Chain Security Act Orders—Prohibition. (DEC 2023) (Pub. L. 115-390, title II).

(B) Alternate I (DEC 2023) of 52.204-30.

* * * * *

William F. Clark,
Director, Office of Government-Wide Acquisition Policy, Office of Acquisition Policy, Office of Government-Wide Policy.

[FR Doc. 2023-24275 Filed 11-8-23; 8:45 am]

BILLING CODE 6820-EP-P